DEPARTMENT OF ENERGY

Federal Energy Regulatory Commission

[Project No. 309-036]

Reliant Energy Mid-Atlantic Power Holdings, LLC; Notice Establishing Procedures for Relicensing and a Deadline For Submission Of Final Amendments

October 24, 2000.

The license for the Piney Project No 309, located on the Clarion River in Clarion County, Pennsylvania, will expire on October 12, 2002. On October 11, 2000, an application for new license was filed. The following is an approximate schedule and procedures that will be followed in processing the application:

Date | Action
December 31, 2000 | Commission notifies applicant that its application has been accepted and specifies the need for additional information and due date.
January 15, 2001 | Commission issues public notice of the accepted application establishing dates for filing motions to intervene and protests.
March 15, 2001 | Commission's deadline for the applicant for filing a final amendment, if any, to its application.
June 15, 2001 | Commission notifies all parties and agencies that the application is ready for environmental analysis.

Upon receipt of any additional information and the information filed in response to the public notice of the acceptance of the application, the Commission will evaluate the application in accordance with applicable statutory requirements and take appropriate action on the application.

Any questions concerning this notice should be directed to William Guey-Lee at (202) 219-2808, or email at: william.guey-lee@ferc.fed.us.

David P. Boergers,
Secretary.

[FR Doc. 00-27774 Filed 10-27-00; 8:45 am]

BILLING CODE 6717-01-M